DEPARTMENT OF TRANSPORTATION

Federal Aviation Administration

14 CFR Part 39

[Docket No. FAA-2006-26352; Directorate Identifier 2006-NM-231-AD; Amendment 39-14830; AD 2006-24-01]

RIN 2120-AA64

Airworthiness Directives; Cessna Model 750 Airplanes

AGENCY: Federal Aviation Administration (FAA), Department of Transportation (DOT).

ACTION: Final rule; request for comments.

SUMMARY: The FAA is superseding an existing airworthiness directive (AD) that applies to certain Cessna Model 750 airplanes. The existing AD currently requires repetitive inspections for clearance and chafing of an auxiliary power unit (APU) fuel tube assembly in the tail cone area of the airplane, and corrective actions if necessary. For certain airplanes, the existing AD also requires replacing the APU fuel line. This new AD adds airplanes to the applicability and allows operators to modify the APU fuel line by installing new fuel lines, fairleads, and clamping configurations, which is an optional terminating action for the repetitive inspections. This AD results from reports of chafed APU fuel tubes leaking into the tail cone area due to interference between the fuel tube assembly and elevator flight control cables, hydraulic lines, and high-temperature bleed air couplings. We are issuing this AD to detect and correct this interference, which could result in chafing, fuel leaking into an area where ignition sources are present, and possible fire in an area without fire detection or extinguishing provisions.

DATES: This AD becomes effective December 6, 2006.

The Director of the Federal Register approved the incorporation by reference of a certain publication listed in the AD as of December 6, 2006.

On May 10, 2005 (70 FR 21139, April 25, 2005), the Director of the Federal Register approved the incorporation by reference of Cessna Alert Service Letter ASL750-49-09, Revision 2, dated March 10, 2005; and Cessna Service Bulletin SB750-49-05, Revision 1, dated January 17, 2000.

We must receive any comments on this AD by January 22, 2007.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Cessna Aircraft Co., P.O. Box 7706, Wichita, Kansas 67277, for service information identified in this AD.

FOR FURTHER INFORMATION CONTACT: Robert D. Adamson, Aerospace Engineer, Mechanical Systems and Propulsion Branch, ACE-116W, FAA, Wichita Aircraft Certification Office, 1801 Airport Road, Room 100, Mid-Continent Airport, Wichita, Kansas 67209; telephone (316) 946-4145; fax (316) 946-4107.

SUPPLEMENTARY INFORMATION:

Discussion

On April 13, 2005, we issued AD 2005-09-01, amendment 39-14069 (70 FR 21139, April 25, 2005). That AD applies to certain Cessna Model 750 airplanes. That AD requires repetitive inspections for clearance and chafing of an auxiliary power unit (APU) fuel tube assembly in the tail cone area of the airplane, and corrective actions if necessary. For certain airplanes, that AD also requires replacing the APU fuel line. That AD resulted from reports of chafed APU fuel tubes leaking into the tail cone area due to interference between the fuel tube assembly and elevator flight control cables, hydraulic lines, and high-temperature bleed air couplings. The actions specified in that AD are intended to detect and correct this interference, which could result in chafing, fuel leaking into an area where ignition sources are present, and possible fire in an area without fire detection or extinguishing provisions.

Actions Since AD Was Issued

Since we issued that AD, the manufacturer has reported that additional airplanes are subject to the existing requirements in AD 2005-09-01.

The preamble to AD 2005-09-01 specified that we considered the requirements “interim action” and that the manufacturer was developing a modification to address the unsafe condition. The manufacturer now has developed a modification.

Relevant Service Information

We have reviewed Cessna Service Bulletin SB750-49-12, Revision 1, dated August 3, 2006. The service bulletin describes procedures for modifying the APU fuel line by installing new fuel lines, fairleads, and clamping configurations.

FAA's Determination and Requirements of This AD

The unsafe condition described previously is likely to exist or develop on other airplanes of the same type design. For this reason, we are issuing this AD to supersede AD 2005-09-01. This new AD retains the requirements of the existing AD. This AD also adds airplanes to the applicability and allows operators to modify the APU fuel line by installing new fuel lines, fairleads, and clamping configurations, which is an optional terminating action for the repetitive inspections in the existing AD.

No Maintenance Transaction Report

Although Cessna Service Bulletin SB750-49-12, Revision 1, specifies to submit a maintenance transaction report to the manufacturer, this AD does not include that requirement.

Interim Action

We consider this AD interim action. We are currently considering requiring the modification, which would constitute terminating action for the repetitive inspections required by this AD. However, the planned compliance time for the installation of the modification would allow enough time to provide notice and opportunity for prior public comment on the merits of the modification.

Clarification of Alternative Method of Compliance (AMOC) Paragraph

We have revised this action to clarify the appropriate procedure for notifying the principal inspector before using any approved AMOC on any airplane to which the AMOC applies.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2006-26352; Directorate Identifier 2006-NM-231-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14069 (70 FR 21139, April 25, 2005) and adding the following new airworthiness directive (AD):

2006-24-01 Cessna Aircraft Company: Docket No. FAA-2006-26352; Directorate Identifier 2006-NM-231-AD; Amendment 39-14830.

Effective Date

(a) This AD becomes effective December 6, 2006.

Affected ADs

(b) This AD supersedes AD 2005-09-01.

Applicability

(c) This AD applies to Cessna Model 750 airplanes, certificated in any category, serial numbers -0001 through -0256 inclusive.

Unsafe Condition

(d) This AD results from reports of chafed auxiliary power unit (APU) fuel tubes leaking into the tail cone area due to interference between the fuel tube assembly and elevator flight control cables, hydraulic lines, and high-temperature bleed air couplings. We are issuing this AD to detect and correct this interference, which could result in chafing, fuel leaking into an area where ignition sources are present, and possible fire in an area without fire detection or extinguishing provisions.

Compliance

(e) You are responsible for having the actions required by this AD performed within the compliance times specified, unless the actions have already been done.

Restatement of the Requirements of AD 2005-09-01

Inspections

(f) For airplanes with a serial number -0001 through -0240 inclusive: Within 25 flight hours or 48 days, whichever occurs first, after May 10, 2005 (the effective date of AD 2005-09-01), do a detailed inspection to verify the clearance and detect chafing of one of the APU fuel tube assemblies in the tail cone area of the airplane due to interference between the APU fuel tube and elevator flight control cables, hydraulic lines, and high temperature bleed air couplings. Do the actions in accordance with the Accomplishment Instructions of Cessna Alert Service Letter (ASL) ASL750-49-09, Revision 2, dated March 10, 2005. Do applicable corrective actions before further flight in accordance with the ASL. Repeat the inspection thereafter at the earlier of the times specified in paragraphs (f)(1) and (f)(2) of this AD.

(1) At intervals not to exceed 250 flight hours or 3 months, whichever occurs first.

(2) Before further flight after access to the inspection area for any other inspection or maintenance.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

APU Fuel Line Replacement

(g) For airplanes having serial numbers -0001 through -0031 inclusive and -0033 through -0107 inclusive: Before the first inspection required by paragraph (f) of this AD, replace the APU fuel tube in the tail cone area of the airplane, in accordance with Cessna Service Bulletin SB750-49-05, Revision 1, dated January 17, 2000. The replacement APU fuel tube must be a new APU fuel tube having part number 6756605-23.

Report

(h) For airplanes with serial numbers -0001 through -0240 inclusive: At the applicable time specified in paragraph (h)(1) or (h)(2) of this AD, report the results (both positive and negative findings) of the initial inspection required by paragraph (f) of this AD, in accordance with Cessna ASL ASL750-49-09, Revision 2, dated March 10, 2005. Information collection requirements contained in this AD have been approved by the Office of Management and Budget (OMB) under the provisions of the Paperwork Reduction Act of 1980 (44 U.S.C. 3501 et seq.) and have been assigned OMB Control Number 2120-0056.

(1) If the inspection is done after the May 10, 2005: Submit the report within 30 days after the inspection.

(2) If the inspection was done before May 10, 2005: Submit the report within 30 days after May 10, 2005.

New Requirements of This AD

Inspections for Additional Airplanes

(i) For airplanes with serial numbers -0241 through -0256 inclusive, within 25 flight hours or 48 days, whichever occurs first, after the effective date of this AD: Do the inspection required by paragraph (f) of this AD. Do applicable corrective actions before further flight in accordance with the Accomplishment Instructions of Cessna Alert Service Letter (ASL) ASL750-49-09, Revision 2, dated March 10, 2005. Repeat the inspection thereafter at the earlier of the times specified in paragraphs (f)(1) and (f)(2) of this AD.

Report for Additional Airplanes

(j) For airplanes with serial numbers -0241 through -0256 inclusive: At the applicable time specified in paragraph (j)(1) or (j)(2) of this AD, do the action required by paragraph (h) of this AD.

(1) If the inspection required by paragraph (i) of this AD is done on or after the effective date of this AD: Submit the report within 30 days after the inspection.

(2) If the inspection required by paragraph (i) of this AD was done before the effective date of this AD: Submit the report within 30 days after the effective date of this AD.

Optional Terminating Action

(k) Modifying the APU fuel line by installing new fuel lines, fairleads, and clamping configurations, in accordance with the Accomplishment Instructions of Cessna Service Bulletin SB750-49-12, Revision 1, dated August 3, 2006, terminates the repetitive inspection requirements of paragraphs (f) and (i) of this AD.

No Maintenance Transaction Report

(l) Although Cessna Service Bulletin SB750-49-12, Revision 1, specifies to submit a maintenance transaction report to the manufacturer, this AD does not require that action.

Alternative Methods of Compliance (AMOCs)

(m)(1) The Manager, Wichita Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(n) You must use Cessna Alert Service Letter ASL750-49-09, Revision 2, dated March 10, 2005; Cessna Service Bulletin SB750-49-05, Revision 1, dated January 17, 2000; and Cessna Service Bulletin SB750-49-12, Revision 1, dated August 3, 2006; as applicable; to perform the actions that are required by this AD, unless the AD specifies otherwise.

(1) The Director of the Federal Register approved the incorporation by reference of Cessna Service Bulletin SB750-49-12, dated August 3, 2006, in accordance with 5 U.S.C. 552(a) and 1 CFR part 51.

(2) On May 10, 2005 (70 FR 21139, April 25, 2005), the Director of the Federal Register approved the incorporation by reference of Cessna Alert Service Letter ASL750-49-09, Revision 2, dated March 10, 2005; and Cessna Service Bulletin SB750-49-05, Revision 1, dated January 17, 2000.

(3) Contact Cessna Aircraft Co., P.O. Box 7706, Wichita, Kansas 67277, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on November 3, 2006.
Ali Bahrami,
Manager, Transport Airplane Directorate, Aircraft Certification Service.

[FR Doc. E6-19439 Filed 11-20-06; 8:45 am]

BILLING CODE 4910-13-P